DEPARTMENT OF ENERGY

Federal Energy Regulatory Commission

[Project No. 12334-000]

Universal Electric Power Corporation; Notice Granting Intervention

September 29, 2003.

On February 12, 2003, the Commission issued a Notice of Application Accepted for Filing and Soliciting Comments, Motions to Intervene, and Protests; for the Demopolis L&D Hydroelectric Project No. 12334, located on the Tombigbee River in Marengo County, Alabama. The notice established April 12, 2003, as the deadline for filing motions to intervene.

On April 25, 2003, the Fort James Operating Company filed an untimely motion to intervene and comments. Granting the motion to intervene will not unduly delay or disrupt the proceeding, or prejudice other parties to it. Therefore, pursuant to Rule 214,¹ the motion to intervene filed by Fort James Operating Company is granted, subject to the Commission's rules and regulations.

¹ 18 CFR 385.214 (2003).

Magalie R. Salas,
Secretary.

[FR Doc. 03-25227 Filed 10-3-03; 8:45 am]

BILLING CODE 6717-01-P